DEPARTMENT OF ENERGY

Federal Energy Regulatory Commission

[Docket No. EC04-62-000, et al.]

Black River Power, LLC, et al.; Electric Rate and Corporate Filings

February 27, 2004.

The following filings have been made with the Commission. The filings are listed in ascending order within each docket classification.

1. Black River Power, LLC, Carlyle/Riverstone Global Energy and Power Fund II, L.P.

[Docket No. EC04-62-000]

Take notice that on February 26, 2004, Black River Power, LLC and Carlyle/Riverstone Global Energy and Power Fund II, L.P. submitted a Notice of Withdrawal of their February 3, 2004, application in the above-referenced proceeding.

Comment Date: March 8, 2004.

2. El Paso Electric Company

[Docket No. EL02-113-005]

Take notice that on January 30, 2004, El Paso Electric Company (EPE), submitted for filing a compliance filing pursuant to the Commission's Letter Order issued October 23, 2003. 105 FERC ¶ 61,107.

Comment Date: March 8, 2004.

3. American Electric Power Service Corporation, Commonwealth Edison Company, Dayton Power and Light Company

[Docket No. EL03-212-009]

Take notice that on February 25, 2004, American Electric Power Service Corporation (AEP), as well as Commonwealth Edison Company and Commonwealth Edison Company of Indiana, Inc. (ComEd) on behalf of Appalachian Power Service Company, Columbus Southern Power Company, Indiana Michigan Power Company, Kentucky Power Company, Kingsport Power Company, Ohio Power Company and Wheeling Power Company and Dayton Power and Light Company (DP&L) filed revisions to their respective open access transmission tariffs (OATTs) in accordance with changes made by the Commission's order issued in Docket Nos. EL02-111-004 and EL03-212-002, on February 6, 2004, Midwest Independent Transmission System Operator, et al., 106 FERC ¶ 61,106 (2004).

AEP, ComEd and DP&L state that they have served copies of this filing on all parties on the Commission's service list for this proceeding, as well as on state public utility commissions having jurisdiction over the companies.

Comment Date: April 1, 2004.

4. California Independent System Operator Corporation

[Docket Nos. ER02-1656-017 and ER02-1656-018]

As announced in the Notice of Technical Conference issued on February 6, 2004, the Commission Staff will convene a technical conference on March 3-5, 2004 in San Francisco, California, to discuss with State representatives and market participants in California various substantive issues related to the California Independent System Operator's (CAISO) Revised MD02 proposal, including the flexible offer obligation proposal, the residual unit commitment process, pricing for constrained-output generators, marginal losses, ancillary services, and market power mitigation issues.

The conference will focus on the issue areas identified in the agenda, which is appended to this notice. With respect to the issues on the conference agenda, which were previously discussed at the January 28-29, 2004, technical conference, the CAISO is expected to present its proposals, as filed on February 24, 2004, in the above-captioned dockets. The CAISO's presentations will be followed by an open discussion amongst all participants. The discussion of the topics related to the market power mitigation issues will begin with a short presentation by the Commission Staff to frame the issue, followed by an open discussion amongst all participants. Participants are encouraged to be prepared to discuss the issues substantively.

For more information about the conference, please contact: Olga Kolotushkina at (202) 502-6024 or at olga.kolotushkina@ferc.gov.

5. New York Independent System Operator, Inc.

[Docket Nos. ER03-552-007 and ER03-984-005]

Take notice that on February 24, 2004, the New York Independent System Operator, Inc. (NYISO) submitted responses to the Commission's Data Requests, dated February 2, 2004, regarding proposed creditworthiness requirements for customers participating in the NYISO-administered markets.

NYISO states that it has served a copy of this filing upon all parties named on the official service list for this proceeding.

Comment Date: March 16, 2004.

6. DeSoto County Generating Co., LLC, et al.

[Docket No. ER03-1383-001]

Take notice that, on February 24, 2004, Progress Energy, Inc. (Progress Energy) submitted for filing on behalf of various Progress Energy subsidiaries a status report in compliance with Ordering Paragraph M of the Commission's Order issued November 24, 2003, in Docket No. ER03-1383-000, 105 FERC ¶ 61,245 (2003).

Progress Energy states that the filing was served on the official service list in Docket No. ER03-1383-000, the Florida Public Service Commission and the North Carolina Public Utilities Commission.

Comment Date: March 16, 2004.

7. Central Hudson Gas & Electric Corporation

[Docket No. ER04-346-000]

Take notice that on February 18, 2004, Central Hudson Gas & Electric Corporation (Central Hudson) submitted for filing a Notice of Withdrawal of FERC Rate Schedule No. 205, in Docket No. ER04-346-000, filed December 30, 2003. Central Hudson states that it is withdrawing the referenced filing because the subject agreement is currently not under the Commission's jurisdiction.

Comment Date: March 9, 2004.

8. Southern California Edison Company

[Docket No. ER04-435-002]

Take notice that on February 25, 2004, Southern California Edison Company (SCE) tendered for filing revisions to its Wholesale Distribution Access Tariff (WDAT) in compliance with Commission's Order No. 2003, Standardization of Generator Interconnection Agreements and Procedures.

SCE states that copies of this filing were served upon the Public Utilities Commission of the State of California, the California Independent System Operator Corporation, the California Electricity Oversight Board, Pacific Gas and Electric Company, San Diego Gas & Electric Company, and the Cities of Anaheim, Azusa, Banning, Riverside, and Vernon, California, and any persons on the Service List for this proceeding.

Comment Date: March 17, 2004.

9. Diverse Power Incorporated

[Docket No. ER04-444-001]

Take notice that on February 12, 2004, Diverse Power Incorporated (Diverse) submitted its proposed Revised Tariff Sheet No. 1 of its Original FERC Rate Schedule No. 1. The revised tariff sheet is being filed to reflect a change in name from Troup Electric Membership Corp. to Diverse Power Incorporated.

Comment Date: March 8, 2004.

10. Diverse Power Incorporated

[Docket No. ER04-555-000]

Take notice that on February 17, 2004, the Commission issued a “Notice of Filing” in Docket No. ER04-555-000. This notice was issued in error and is hereby rescinded.

11. Southwest Power Pool, Inc.

[Docket No. ER04-579-000]

Take notice that on February 24, 2004, Southwest Power Pool, Inc. (SPP) submitted for filing an executed service agreement for Firm Point-to-Point Transmission Service with Western Resources Generation Service d/b/a Westar (Westar). SPP seeks an effective date of June 1, 2004, for the service agreement.

SPP states that Westar was served with a copy of this filing.

Comment Date: March 16, 2004.

12. PJM Interconnection, L.L.C.

[Docket No. ER04-580-000]

Take notice that on February 24, 2004, PJM Interconnection, L.L.C. (PJM), submitted for filing an executed construction service agreement (CSA) among PJM, Bethesda Triangle, LLC, and Potomac Electric Power Company. PJM requests a waiver of the Commission's 60-day notice requirement to permit a February 12, 2004, effective date for the CSA.

PJM states that copies of this filing were served upon the parties to the agreements and the state regulatory commissions within the PJM region.

Comment Date: March 16, 2004.

13. American Electric Power Service Corporation

[Docket No. ER04-581-000]

Take notice that on February 24, 2004, AEP Service Corporation (AEPSC) on behalf of Indiana Michigan Power Company (I&M), tendered for filing a revised Repair and Maintenance Agreement between I&M and Wabash Valley Power Association (O&M Agreement) designated agreement as Eight Revised I&M FERC Rate Schedule No. 81. AEPSC requests waiver of notice to permit the new O&M Agreement to be effective on/or after March 1, 2004.

AEP states that a copy of the filing was served upon the Parties and the state utility regulatory commissions of Indiana and Michigan.

Comment Date: March 16, 2004.

14. Wilbur Power LLC

[Docket Nos. QF83-168-007 and EL04-86-000]

Take notice that on February 26, 2004, Wilbur Power LLC (Wilbur Power), tendered for filing a Request for Limited Waiver of Qualifying Cogeneration Operating and Efficiency Standards, Status Report, and Request for Expedited Consideration.

Comment Date: March 18, 2004.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E4-458 Filed 3-3-04; 8:45 am]

BILLING CODE 6717-01-P